DEPARTMENT OF THE INTERIOR

Fish and Wildlife Service

Proposed Information Collection; OMB Control Number 1018-0093; Federal Fish and Wildlife License/Permit Applications, Management Authority, 50 CFR 13, 15, 17, 18, 21, and 23

AGENCY: Fish and Wildlife Service, Interior.

ACTION: Notice; request for comments.

SUMMARY: We (Fish and Wildlife Service) will ask the Office of Management and Budget (OMB) to approve the information collection (IC) described below. As required by the Paperwork Reduction Act of 1995 and as part of our continuing efforts to reduce paperwork and respondent burden, we invite the general public and other Federal agencies to take this opportunity to comment on this IC, which is scheduled to expire on June 30, 2007. We may not conduct or sponsor and a person is not required to respond to a collection of information unless it displays a currently valid OMB control number.

DATES: You must submit comments on or before April 23, 2007.

ADDRESSES: Send your comments on the IC to Hope Grey, Information Collection Clearance Officer, Fish and Wildlife Service, MS 222-ARLSQ, 4401 North Fairfax Drive, Arlington, VA 22203 (mail); hope_grey@fws.gov (e-mail); or (703) 358-2269 (fax).

FOR FURTHER INFORMATION CONTACT: To request additional information about this IC, contact Hope Grey by mail, fax, or e-mail (see ADDRESSES) or by telephone at (703) 358-2482.

SUPPLEMENTARY INFORMATION:

I. Abstract

This IC covers permit applications that our Division of Management Authority uses to determine the eligibility of applicants for permits requested in accordance with the criteria in various Federal wildlife conservation laws and international treaties, including:

(1) Endangered Species Act (16 U.S.C. 1531 et seq.).

(2) Migratory Bird Treaty Act (16 U.S.C. 703 et seq.).

(3) Lacey Act (16 U.S.C. 3371 et seq.).

(4) Bald and Golden Eagle Protection Act (16 U.S.C. 668).

(5) Convention on International Trade in Endangered Species of Wild Fauna and Flora (CITES) (27 U.S.T. 1087).

(6) Marine Mammal Protection Act (16 U.S.C. 1361-1407).

(7) Wild Bird Conservation Act (16 U.S.C. 4901-4916).

Service regulations implementing these statutes and treaties are in Chapter I, Subchapter B of Title 50, Code of Federal Regulations (CFR). These regulations stipulate general and specific requirements that when met allow us to issue permits to authorize activities that are otherwise prohibited.

This revised IC includes:

(1) Modifications to the format and content of the currently approved application forms so that they are easier to understand and complete.

(2) FWS Forms 3-200-61, 3-200-69, and 3-200-70, which are currently approved under OMB control numbers 1018-0130 and 1018-0022.

(3) FWS Form 3-200-76, which is a new form for the export of caviar or meat of paddlefish or sturgeon from the wild. Applicants currently use FWS Form 3-200-27 for this activity. The new form will simplify the reporting requirements and reduce burden on the public.

II. Data

OMB Control Number: 1018-0093.

Title: Federal Fish and Wildlife License/Permit Applications, Management Authority, 50 CFR 13, 15, 17, 18, 21, and 23.

Service Form Number(s): 3-200-19 through 3-200-37, 3-200-39 through 3-200-53, 3-200-58, 3-200-61, 3-200-64 through 3-200-66, 3-200-69 to 3-200-70, 3-200-73, and 3-200-76.

Type of Request: Revision of currently approved collection.

Affected Public: Individuals, biomedical companies, circuses, zoological parks, botanical gardens, nurseries, museums, universities, scientists, antique dealers, exotic pet industry, hunters, taxidermists, commercial importers/exporters of wildlife and plants, freight forwarders/brokers, local, State, tribal, and Federal governments.

Respondent's Obligation: Required to Obtain or Retain a Benefit.

Frequency of Collection: On occasion.

The following table lists the application forms and burden estimates. We have rounded the annual burden hours for each form to the nearest hour. Those applications with an asterisk (*) have a reporting requirement for the associated permit. Each permit specifies the required report information.

Application Forms | Number of annual respondents | Number of annual responses | Completion time per response | Annual burden hours
3-200-19/ Import of Sport-hunted Trophies of Southern African Leopard, African Elephant, and Namibian Southern White Rhinoceros | 1,031 | 1,078 | 20 minutes | 359
3-200-20/ Import of Sport-Hunted Trophies (Appendix I of CITES and/or ESA) | 15 | 21 | 1 hour | 21
3-200-21/ Import of Sport-Hunted Trophies of Argali | 134 | 182 | 45 minutes | 137
3-200-22/ Import of Sport-Hunted Bontebok Trophies | 70 | 95 | 20 minutes | 32
3-200-23/ Export of Pre-Convention, Pre-Act, or Antique Specimens (CITES and/or ESA) | 127 | 241 | 45 minutes | 181
3-200-24/ Export of Live Captive-Born Animals (CITES) | 171 | 483 | 45 minutes | 362
3-200-25/ Export of Raptors | 46 | 63 | 1 hour | 63
3-200-26/ Export of skins/products of 7 native species: bobcat, lynx, river otter, American alligator, Alaskan brown bear, black bear, and gray wolf | 618 | 843 | 20 minutes | 281
3-200-27/ Export of Wildlife Removed from the Wild (CITES) | 69 | 114 | 45 minutes | 86
3-200-28/ Export/Re-Export of Trophies by Hunters or Taxidermists (CITES) | 57 | 95 | 30 minutes | 48
3-200-29/ Import/Export/Re-Export of Wildlife Samples and/or Biomedical Samples (CITES) | 108 | 268 | 1 hour, 10 minutes | 313
3-200-30/ Export/Reexport/Reimport of Circuses and Traveling Animal Exhibitions | 73 | 80 | 1 hour | 80
3-200-31/ Introduction from the Sea (CITES) | 3 | 3 | 2 hours | 6
3-200-32/ Export/Re-Export of Plants (CITES) | 106 | 619 | 1 hour | 619
3-200-33/ Export of Artificially Propagated Plants (Multiple Commercial Shipments) | 20 | 303 | 2 hours | 606
3-200-34/ Export of American Ginseng (Commercial only)* | 41 | 107 | 20 minutes | 36
3-200-35/ Import of Appendix-I Plants (CITES) | 1 | 1 | 1 hour | 1
3-200-36/ Export/Import/InterState and Foreign Commerce of Plants* | 1 | 1 | 1 hour | 1
3-200-37/ Export/Import/Interstate and Foreign Commerce/Take of Animals* | 111 | 165 | 2 hours | 330
3-200-39/ Certificate of Scientific Exchange (COSE)* | 7 | 7 | 1 hour | 7
3-200-40/ Export and Re-Import of Museum Specimens* | 2 | 2 | 1 hour | 2
3-200-41/ Captive-Bred Wildlife Registration* | 87 | 87 | 2 hours | 174
3-200-42/ Import/Acquisition/Transport of Injurious Wildlife | 21 | 21 | 1 hour | 21
3-200-43/ Take/Import/Transport/Export of Marine Mammals or Amendment of Existing Permit* | 16 | 19 | 2 hours, 20 minutes | 44
3-200-44/ Registration of An Agent/Tannery* | 1 | 1 | 30 minutes | 1
3-200-45/ Import of Polar Bear Trophies Sport-Hunted in Canada (MMPA) | 78 | 78 | 30 minutes | 39
3-200-46/ Import/Export of Personal Pets (WBCA and or CITES) | 335 | 343 | 30 minutes | 172
3-200-47/ Import of Birds for Scientific Research or Zoological Breeding and Display (WBCA) | 7 | 16 | 2 hours | 32
3-200-48/ Import of Birds Under an Approved Cooperative Breeding Program (WBCA)* | 4 | 4 | 1 hours | 4
3-200-49/ Approval, Amendment or Renewal of a Cooperative Breeding Program (WBCA) | 4 | 4 | 3 hours | 12
3-200-50/ Approval of Sustainable Use Management Plan Under the Wild Bird Conservation Act | 1 | 1 | 10 hours | 10
3-200-51/ Approval of a Foreign Breeding Facility Under the Wild Bird Conservation Act | 1 | 1 | 8 hours | 8
3-200-52/ Reissuance or Renewal of a Permit | 147 | 200 | 15 minutes | 50
3-200-53/ Export/Re-Export of Live Captive-Held Marine Mammals (CITES) | 4 | 4 | 2 hours | 8
3-200-58/ Supplemental Application for a Retrospective Document (CITES) | 50 | 50 | 1 hour | 50
3-200-61/ CITES Export Programs* | 25 | 25 | 43 hours, 30 minutes | 1,088
3-200-64/ Certificate of Ownership for Personally Owned Wildlife “Pet passport” (CITES) | 115 | 137 | 30 minutes | 69
3-200-65/ Registration of Appendix-I Commercial Breeding Operations (CITES) | 2 | 2 | 40 hours | 80
3-200-66/ Replacement Document (CITES) | 50 | 50 | 30 minutes | 25
3-200-69/ CITES Import/Export- Eagle Transport for Scientific or Exhibition Purposes | 1 | 1 | 30 minutes | 1
3-200-70/ CITES Import/Export- Eagle Transport for Indian Religious Purposes | 16 | 16 | 30 minutes | 8
3-200-73/ Re-Export of Wildlife (CITES) | 3,985 | 5,433 | 30 minutes | 2,717
3-200-76/ Export of Caviar or Meat of Paddlefish or Sturgeon Removed from the Wild (CITES)* | 12 | 120 | 3 hours | 360
Totals | 7,773 | 11,384 |  | 8,544

III. Request for Comments

We invite comments concerning this information collection on:

(1) whether or not the collection of information is necessary, including whether or not the information will have practical utility;

(2) the accuracy of our estimate of the burden for this collection of information;

(3) ways to enhance the quality, utility, and clarity of the information to be collected; and

(4) ways to minimize the burden of the collection of information on respondents.

Comments submitted in response to this notice are a matter of public record. We will include and/or summarize each comment in our request to OMB to approve this information collection.

Dated: January 25, 2007
Hope Grey,
Information Collection Clearance Officer, Fish and Wildlife Service.

[FR Doc. E7-2959 Filed 2-21-07; 8:45 pm]

Billing Code 4310-55-S